DEPARTMENT OF HOMELAND SECURITY

U.S. Customs and Border Protection

Agency Information Collection Activities: Land Border Carrier Initiative

AGENCY: U.S. Customs and Border Protection, Department of Homeland Security.

ACTION: Proposed collection; comments requested.

SUMMARY: U.S. Customs and Border Protection (CBP) of the Department of Homeland Security has submitted the following information collection request to the Office of Management and Budget (OMB) for review and approval in accordance with the Paperwork Reduction Act of 1995: Land Border Carrier Initiative. This is a proposed extension of an information collection that was previously approved. CBP is proposing that this information collection be extended with a change to the burden hours. This document is published to obtain comments from the public and affected agencies. This proposed information collection was previously published in the Federal Register (72 FR 9346) on March 1, 2007, allowing for a 60-day comment period. This notice allows for an additional 30 days for public comments. This process is conducted in accordance with 5 CFR 1320.10.

DATES: Written comments should be received on or before May 31, 2007.

ADDRESSES: Interested persons are invited to submit written comments on the proposed information collection to the Office of Information and Regulatory Affairs, Office of Management and Budget. Comments should be addressed to Nathan Lesser, Desk Officer, Department of Homeland Security/Customs and Border Protection, and sent via electronic mail to oira_submission@omb.eop.gov or faxed to (202) 395-6974.

SUPPLEMENTARY INFORMATION: U.S. Customs and Border Protection (CBP) encourages the general public and affected Federal agencies to submit written comments and suggestions on proposed and/or continuing information collection requests pursuant to the Paperwork Reduction Act of 1995 (Pub. L. 104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological collection techniques or other forms of information technology, e.g., permitting electronic submission of responses.

Title: Land Border Carrier Initiative Program.

OMB Number: 1651-0077.

Form Number: N/A.

Abstract: LBCIP is a Program in which applicants are pre-screened in order to receive expedited processing at CBP land ports-of-entry. The Customs and Trade Partnership Against Terrorism (C-TPAT) Program supersedes LBCIP and expands it to include other entities, including air and sea. Its purpose is also to provide participants expedited processing at ports-of-entry. CBP requests that the name of this information collection be changed from Land Border Carrier Initiative Program (LBCIP) to Customs and Trade Partnership Against Terrorism (C-TPAT).

Current Actions: This submission is to extend the expiration date without a change to the burden hours.

Type of Review: Extension (with change).

Affected Public: Businesses, Individuals, Institutions.

Estimated Number of Respondents: 6,500.

Estimated Time per Respondent: 5 hours.

Estimated Total Annual Burden Hours: 32,500.

Estimated Total Annualized Cost on the Public: N/A.

If additional information is required contact: Tracey Denning, U.S. Customs and Border Protection, 1300 Pennsylvania Avenue, NW., Room 3.2.C, Washington, DC 20229, at 202-344-1429.

Dated: April 24, 2007.
Tracey Denning,
Agency Clearance Officer, Information Services Branch.

[FR Doc. E7-8306 Filed 4-30-07; 8:45 am]

BILLING CODE 9111-14-P